DEPARTMENT OF THE TREASURY

Office of Thrift Supervision

[AC-14: OTS Nos. H-2029; H-3798 and 04195]

Wayne Savings Bankshares, MHC, Wooster, OH, and Wayne Savings Community Bank, Wooster, OH; Approval of Conversion Application

Notice is hereby given that on November 14, 2002, the Director, Supervision Policy, Office of Thrift Supervision (“OTS”), or her designee, acting pursuant to delegated authority, approved the application of Wayne Savings Bankshares, MHC, Wooster, Ohio (MHC), to convert to the stock form of organization. The MHC is the parent mutual holding company of Wayne Savings Community Bank, Wooster, Ohio (Savings Association). Following the proposed conversion, the Savings Association will be a wholly owned stock subsidiary of Wayne Savings Bancshares, Inc., Wooster, Ohio (Holding Company). Copies of the application are available for inspection by appointment (phone number: 202-906-5922 or e-mail: Public.Info@OTS.Treas.gov) at the Public Reading Room, OTS, 1700 G Street, NW., Washington, DC 20552, and the OTS Northeast Regional Office, 10 Exchange Place, 18th Floor, Jersey City, New Jersey 07302.

Dated: November 19, 2002.
By the Office of Thrift Supervision.
Nadine Y. Washington,
Corporate Secretary.

[FR Doc. 02-29802 Filed 11-22-02; 8:45 am]

BILLING CODE 6720-01-M